DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2007 Economic Census—Commodity Flow Survey.

Form Number(s): CFS-1000, CFS-2000.

Agency Approval Number: None.

Type of Request: New collection.

Burden: 800,000 hours.

Number of Respondents: 100,000.

Avg Hours Per Response: 2 hours.

Needs and Uses: The 2007 Commodity Flow Survey, a component of the U.S. Census Bureau's 2007 Economic Census, will produce key information about the transportation of freight in the United States. The Commodity Flow Survey is a cooperative effort between the Census Bureau and the Research and Innovative Technology Administration's Bureau of Transportation Statistics, U.S. Department of Transportation. In addition to their funding support, the Bureau of Transportation Statistics also provides additional technical and planning guidance in the development and conduct of the program.

The Commodity Flow Survey is the only source of nationwide data on the movement of goods from origin to destination by all modes of transportation and for multi-modal combinations. This survey provides a crucial set of statistics on the value, weight, mode, and distance of commodities shipped by establishments in mining, manufacturing, wholesale, and other selected industries. The Census Bureau will publish these statistics at the national, Census Region, Census Division, state, and Metropolitan Area levels. We will also publish separate special reports on export shipments and on shipments of hazardous materials.

The Department of Transportation consistently views updated information on freight flows as critical to understanding markets, consequences, and investment needs. They also are important to effective analyses of economic development, social issues, and the environment; and for a variety of private sector decisions.

Federal, State, and local government agencies spend more than $100 billion annually on transportation programs. The Commodity Flow Survey provides data that are critical to these agencies in making a wide range of transportation investment decisions for developing and maintaining an efficient transportation infrastructure that supports economic growth and competitiveness. Numerous other Federal, state, and local agencies require the Commodity Flow Survey data on transportation flows, as they impact the domestic economy in many ways.

Transportation planners require the periodic benchmarks provided by a continuing Commodity Flow Survey to evaluate and respond to ongoing geographic shifts in production and distribution centers, as well as policies such as “just in time delivery” and third-party logistics providers (also known as 3PLs).

The 2007 Commodity Flow Survey will be a mail-out/mail-back sample survey of business establishments in mining, manufacturing, wholesale, and other selected industries.

Affected Public: Business or other for-profit.

Frequency: Respondents will be asked to report quarterly for one year. The collection is conducted once every 5 years.

Respondent's Obligation: Mandatory.

Legal Authority: Title 13 U.S.C. 131, 193, and 224.

OMB Desk Officer: Susan Schechter, (202) 395-5103.

Copies of the above information collection proposal can be obtained by calling or writing Diana Hynek, Departmental Paperwork Clearance Officer, (202)482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 15, 2006.
Madeleine Clayton,
Management Analyst, Office of the Chief Information Officer.

[FR Doc. E6-13707 Filed 8-18-06; 8:45 am]

BILLING CODE 3510-07-P